POSTAL SERVICE

Elimination of USPS Retail Ground Product

AGENCY: Postal Service™.

ACTION: Notice of elimination of product.

SUMMARY: The Postal Service hereby provides notice that it has filed a request with the Postal Regulatory Commission to remove the USPS Retail Ground product from the competitive product list.

DATES: The request was submitted to the Postal Regulatory Commission on July 13, 2022.

FOR FURTHER INFORMATION CONTACT: Elizabeth A. Reed at (202) 268-3179.

SUPPLEMENTARY INFORMATION: On July 13, 2022, the United States Postal Service filed with the Postal Regulatory Commission a USPS Request to Remove USPS Retail Ground from the Competitive Product List pursuant to 39 U.S.C. 3642. Documents pertinent to this request are available at https://www.prc.gov, Docket No. MC2022-81.

Sarah Sullivan,
Attorney, Ethics & Legal Compliance.

[FR Doc. 2022-15489 Filed 7-19-22; 8:45 am]

BILLING CODE 7710-12-P